Presidential Determination No. 2022-02 of October 8, 2021

Presidential Determination on Refugee Admissions for Fiscal Year 2022

Memorandum for the Secretary of State

By the authority vested in me as President by the Constitution and the laws of the United States, in accordance with section 207 of the Immigration and Nationality Act (the “Act”) (8 U.S.C. 1157), and after appropriate consultations with the Congress, I hereby make the following determinations and authorize the following actions:

The admission of up to 125,000 refugees to the United States during Fiscal Year (FY) 2022 is justified by humanitarian concerns or is otherwise in the national interest.

The admissions numbers shall be allocated among refugees of special humanitarian concern to the United States in accordance with the following regional allocations:

| Africa | 40,000 |
| East Asia | 15,000 |
| Europe and Central Asia | 10,000 |
| Latin America/Caribbean | 15,000 |
| Near East/South Asia | 35,000 |
| Unallocated Reserve | 10,000 |

The 10,000 unallocated refugee numbers shall be allocated to regional ceilings, as needed. Upon providing notification to the Judiciary Committees of the Congress, you are hereby authorized to use unallocated admissions in regions where the need for additional admissions arises.

Additionally, upon notification to the Judiciary Committees of the Congress, you are further authorized to transfer unused admissions allocated to a particular region to one or more other regions, if there is a need for greater admissions for the region or regions to which the admissions are being transferred.

Consistent with section 2(b)(2) of the Migration and Refugee Assistance Act of 1962 (22 U.S.C. 2601(b)(2)), I hereby determine that assistance to or on behalf of persons applying for admission to the United States as part of the overseas refugee admissions program will contribute to the foreign policy interests of the United States and designate such persons for this purpose.

Consistent with section 101(a)(42) of the Act (8 U.S.C. 1101(a)(42)), and after appropriate consultation with the Congress, I also specify that, for FY 2022, the following persons may, if otherwise qualified, be considered refugees for the purpose of admission to the United States within their countries of nationality or habitual residence:

• Persons in Cuba;

• Persons in Eurasia and the Baltics;

• Persons in Iraq;

• Persons in El Salvador, Guatemala, and Honduras; and

• In certain circumstances, persons identified by a United States Embassy in any location.

You are authorized and directed to publish this determination in the Federal Register.

THE WHITE HOUSE,

Washington, October 8, 2021

[FR Doc. 2021-22760

Filed 10-15-21; 8:45 am]

Billing code 4710-10-P